DEPARTMENT OF LABOR

Mine Safety and Health Administration

Petitions for Modification

The following parties have filed petitions to modify the application of existing safety standards under section 101(c) of the Federal Mine Safety and Health Act of 1977.

1. Dakota Westmoreland Corporation

[Docket No. M-2004-018-C]

Dakota Westmoreland Corporation, P.O. Box 39, Beulah, North Dakota 58523-0039 has filed a petition to modify the application of 30 CFR 77.1607(u) (Loading and haulage equipment; operation) to its Beulah Mine (MSHA I.D. No. 32-00043) located in Mercer County, North Dakota. The petitioner proposes to use a portable hydraulic unit (power pack) to tow large trucks in lieu of using a tow bar and safety chain. The petitioner states that qualified operators and mechanics would be task trained to perform the installations of the power pack, and if anything fails, the haul trucks' brakes would automatically set up and all towing procedures would be stopped. The petitioner asserts that the proposed alternative method would not result in a diminution of safety to the miners.

2. Oak Grove Resources, LLC

[Docket No. M-2004-019-C]

Oak Grove Resources, LLC, Gateway Center, Suite 1340, 401 Liberty Avenue, Pittsburgh, Pennsylvania 1522 has filed a petition to modify the application of 30 CFR 75.507 (Power connection points) to its Oak Grove Mine (MSHA I.D. No. 01-00851) located in Jefferson County, Alabama. The petitioner requests a modification of the existing standard to permit the use of high-voltage submersible pumps in boreholes into an area of the Oak Grove Mine where water has accumulated. The petitioner proposes to equip the pumps with probes to determine a high and low water level. The probes will consist of redundant electronic pressure transducers that are suitable for submersible pump control application. The probe circuits will be protected by a MSHA approved intrinsically safe barrier. The pump electric control will be designed and installed so that the pump will not start manually or automatically if water is below the low water probe level, the pump will cease operation when the water level is lower than the low water probe, and the pump will start operation when the water level reaches the high water probe. The petitioner has listed in this petition additional terms and conditions that would be implemented when using the proposed alternative method. The petitioner asserts that the proposed alternative method would provide at least the same measure of protection as the existing standard.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before June 16, 2004. Copies of these petitions are available for inspection at that address.

Dated at Arlington, Virginia this 11th day of May 2004.
Marvin W. Nichols, Jr.,
Director, Office of Standards, Regulations, and Variances.

[FR Doc. 04-11050 Filed 5-14-04; 8:45 am]

BILLING CODE 4510-43-P